DEPARTMENT OF LABOR

Employment and Training Administration

[TA-W-51,595]

Paradise Fisheries, Kodiak, AK; Dismissal of Application for Reconsideration

Pursuant to 29 CFR 90.18(C) an application for administrative reconsideration was filed with the Director of the Division of Trade Adjustment Assistance for workers at Paradise Fisheries, Kodiak, Alaska. The application contained no new substantial information which would bear importantly on the Department's determination. Therefore, dismissal of the application was issued.

TA-W-51,595; Paradise Fisheries, Kodiak, Alaska (August 7, 2003).

Signed at Washington, DC this 28th day of November, 2003.
Timothy Sullivan,
Director, Division of Trade Adjustment Assistance.

[FR Doc. 03-31981 Filed 12-30-03; 8:45 am]

BILLING CODE 4510-30-M